FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Margin Credit Reports (FR G-1, FR G-2, FR G-3, FR G-4, FR T-4, and FR U-1; OMB No. 7100-0011).

DATES: Comments must be submitted on or before April 16, 2024.

ADDRESSES: You may submit comments, identified by FR G-1, FR G-2, FR G-3, FR G-4, FR T-4, or FR U-1, by any of the following methods:

• Agency website: https://www.federalreserve.gov/. Follow the instructions for submitting comments at https://www.federalreserve.gov/apps/foia/proposedregs.aspx.

• Email: regs.comments@federalreserve.gov. Include the OMB number or FR number in the subject line of the message.

• FAX: (202) 452-3819 or (202) 452-3102.

• Mail: Federal Reserve Board of Governors, Attn: Ann E. Misback, Secretary of the Board, Mailstop M-4775, 2001 C St. NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St. NW, Washington, DC 20551, between 9 a.m. and 5 p.m. on weekdays, except for Federal holidays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/home/review or may be requested from the agency clearance officer, whose name appears above. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Collection title: Margin Credit Reports.

Collection identifier: FR G-1, FR G-2, FR G-3, FR G-4, FR T-4, and FR U-1.

OMB control number: 7100-0011.

General description of collection: The Margin Credit Reports is comprised of the following six reports: Registration Statement for Persons Who Extend Credit Secured by Margin Stock (Other Than Banks, Brokers, or Dealers) (FR G-1), Deregistration Statement for Persons Registered Pursuant to Regulation U (FR G-2), Statement of Purpose for an Extension of Credit Secured by Margin Stock by a Person Subject to Registration Under Regulation U (FR G-3), Annual Report (FR G-4), Statement of Purpose for an Extension of Credit by a Creditor (FR T-4), and Statement of Purpose for an Extension of Credit Secured by Margin Stock (FR U-1). These reports relate to extensions of credit secured by margin stock. The Board collects the information gathered by the Margin Credit Reports so that it may meet certain obligations under the Securities Exchange Act of 1934.

Certain lenders that are not brokers, dealers, or banks making loans secured by margin stock must register and deregister with the Federal Reserve using the FR G-1 and FR G-2, respectively, and must file an annual report (FR G-4) while registered. The FR G-1, FR G-2, and FR G-4 reporting requirements collect data used to identify lenders subject to the Board's Regulation U to verify their compliance with the regulation and to monitor margin credit.

The FR T-4, FR U-1, and FR G-3 are forms that implement recordkeeping requirements for brokers and dealers, banks, and other lenders, respectively. The FR T-4 documents the purpose of credit being extended when that credit is not to purchase, carry, or trade in securities and the credit is in excess of that otherwise permitted under Regulation T. The FR G-3 and FR U-1 document the purpose of loans secured by margin stock.

Proposed revisions: The Board proposes to revise the FR G-1 and FR G-4 by updating the confidentiality treatment as contained in the reporting instructions to state that individual respondents may request that information submitted to the Board through the FR G-1 and FR G-4 be kept confidential and the Board will evaluate whether such treatment is appropriate on a case-by-case basis. The reports currently state that the Board considers the information submitted to be confidential. The Board believes these changes more accurately reflect its obligations under the Privacy Act of 1974, 5 U.S.C. 552a. There are no changes being proposed to the FR G-2, FR G-3, FR T-4, or FR U-1.

Frequency: Event-generated.

Respondents: The FR G-1, FR G-2, FR G-3, and FR G-4 panels comprise lenders, other than banks, brokers, or dealers, that extend margin credit, including federal and state credit unions; insurance companies; commercial and consumer credit organizations; production credit associations; small businesses; insurance premium funding plans; plan-lenders (a company or its affiliate that extends credit to employees to purchase company stock under an eligible employee stock option or stock purchase plan); and lenders to Employee Stock Ownership Plans (ESOPs), thrift plans, and broker-dealer affiliates. The FR T-4 panel comprises brokers and dealers and the FR U-1 panel comprises banks.

Total estimated number of respondents: FR G-1, 25; FR G-2, 12; FR G-3, 10; FR G-4, 129; FR T-4, 14; FR U-1, 14.

Estimated average hours per response: FR G-1, 1.65; FR G-2, 0.53; FR G-3, 0.25; FR G-4, 2.07; FR T-4, 0.25; FR U-1, 0.25.

Total estimated annual burden hours: 697.¹

¹ More detailed information regarding this collection, including more detailed burden estimates, can be found in the OMB Supporting Statement posted at https://www.federalreserve.gov/apps/reportingforms/home/review. On the page displayed at the link, you can find the OMB Supporting Statement by referencing the collection identifier, FR GTU.

Board of Governors of the Federal Reserve System, February 12, 2024.
Michele Taylor Fennell,
Deputy Associate Secretary of the Board.

[FR Doc. 2024-03221 Filed 2-15-24; 8:45 am]

BILLING CODE 6210-01-P